DEPARTMENT OF TRANSPORTATION

Federal Aviation Administration

14 CFR Part 71

[Docket No. FAA-2003-16408; Airspace Docket No. 03-ACE-76]

Modification of Class E Airspace; Plattsmouth, NE

Correction

In rule document 04-241 beginning on page 495 in the issue of Tuesday, January 6, 2004, make the following correction:

§ 71.1 [Corrected]

On page 496, in the third column in § 71.1, the heading ACE NE 45 Plattsmouth, NE should read ACE NE E5 Plattsmouth, NE.

[FR Doc. C4-241 Filed 1-9-04; 8:45 am]

BILLING CODE 1505-01-D